DEPARTMENT OF HEALTH AND HUMAN SERVICES

Health Resources and Services Administration

National Advisory Council on Nurse Education and Practice; Notice for Request for Nominations

AGENCY: Health Resources and Services Administration, Department of Health and Human Services.

ACTION: Notice.

SUMMARY: The Health Resources and Services Administration (HRSA) is requesting nominations to fill at least 16 vacancies on the National Advisory Council on Nurse Education and Practice (NACNEP).

DATES: The Agency must receive nominations on or before July 15, 2015.

ADDRESSES: All nominations are to be submitted either by email to Kristen Hansen, Acting Designated Federal Official, NACNEP, at nacnep@hrsa.gov or by mail to Kristen Hansen, Division of Nursing and Public Health, Bureau of Health Workforce, Health Resources and Administration, Parklawn Building, Room 9-89, 5600 Fishers Lane, Rockville, Maryland 20857.

FOR FURTHER INFORMATION CONTACT: For additional information, contact Kristen Hansen, Division of Nursing and Public Health, Bureau of Health Workforce, by email at nacnep@hrsa.gov or telephone at (301) 443-2796. A copy of the current committee membership, charter, and reports can be obtained by accessing the NACNEP Web site (http://www.hrsa.gov/advisorycommittees/bhpradvisory/nacnep/index.html).

SUPPLEMENTARY INFORMATION: Under the authorities that established the NACNEP and the Federal Advisory Committee Act, HRSA is requesting nominations for at least 16 new committee members. The NACNEP provides advice and recommendations to the Secretary and Congress in preparation of general regulations and concerning policy matters arising in the administration of Title VIII, including the range of issues related to nurse workforce education and practice improvement. Annually, the NACNEP prepares and submits to the Secretary, the Committee on Labor and Human Resources of the Senate, and the Committee on Commerce of the House of Representatives, a report describing the activities of the council, including findings and recommendations made by the NACNEP concerning the activities under Title VIII.

The Department of Health and Human Services is requesting at least 16 nominations for members of the NACNEP from leading authorities in the various fields of nursing, higher and secondary education, and associate degree schools of nursing; and from representatives of advanced education nursing groups (such as nurse practitioners, nurse midwives, and nurse anesthetists); from hospitals and other institutions and organizations which provide nursing services; from practicing professional nurses; from the general public; and full-time students enrolled in schools of nursing. The majority of NACNEP members shall be nurses.

HRSA has special interest in the legislative requirements of having a fair balance between the nursing profession with a broad geographic representation of members, a balance between urban and rural members, and the adequate representation of minorities. HRSA encourages nominations from qualified candidates from these groups as well as individuals with disabilities and veterans.

Interested persons may nominate one or more qualified persons for membership. Self-nominations are accepted. Nominations must be typewritten. The following information should be included in the package of materials submitted for each individual being nominated: (1) a letter of nomination that clearly states the name and affiliation of the nominee, the basis for the nomination (i.e., specific attributes that qualify the nominee for service in this capacity), a statement that the nominee is willing to serve as a member of the council and appears to have no conflict of interest that would preclude this council membership. Potential candidates will be asked to provide detailed information concerning such matters as financial holdings, consultancies, research grants, and/or contracts to permit an evaluation of possible sources of conflicts of interest; (2) the nominator's name, address, and daytime telephone number; the home/or work address and telephone number; and the email address of the individual being nominated; (3) a current copy of the nominee's curriculum vitae; and (4) a statement of interest from the nominee to support experience working with Title VIII nursing programs, expertise in the field, and a personal desire in participating on the NACNEP.

Members will receive a stipend for each official meeting day of the NACNEP, as well as per diem and travel expenses as authorized by section 5 U.S.C. 5703 for persons employed intermittently in government service.

Appointments shall be made without discrimination on the basis of age, ethnicity, gender, sexual orientation and cultural, religious, or socioeconomic status. Qualified candidates will be invited to serve up to a 4-year term.

Authority: The National Advisory Council on Nurse Education and Practice is in accordance with the provisions of 42 United States Code (U.S.C.) 297t; section 851 of the Public Health Service Act, as amended. The Council is governed by provisions of Pub. L. 92-463, which sets forth standards for the formation and use of advisory committees.

Jackie Painter,
Director, Division of the Executive Secretariat.

[FR Doc. 2015-10356 Filed 5-1-15; 8:45 am]

BILLING CODE 4165-15-P